DEPARTMENT OF TRANSPORTATION

Federal Motor Carrier Safety Administration

49 CFR Part 396

[Docket No. FMCSA-2025-0115]

RIN 2126-AC89

Electronic Driver Vehicle Inspection Reports

AGENCY: Federal Motor Carrier Safety Administration (FMCSA), Department of Transportation (DOT).

ACTION: Final rule.

SUMMARY: FMCSA clarifies the requirement to complete a Driver Vehicle Inspection Report (DVIR) based upon a public comment filed by the National Tank Truck Carriers (NTTC). The DVIR may already be completed electronically, however the explicit language in this rule will make this clear. This will encourage motor carriers and drivers to utilize electronic, cost-saving methods when completing DVIRs.

DATES: Effective March 23, 2026.

Petitions for reconsideration of this final rule must be submitted to the FMCSA Administrator no later than March 23, 2026.

FOR FURTHER INFORMATION CONTACT: Mr. Bill Mahorney, Chief, Enforcement Division, FMCSA, 1200 New Jersey Avenue SE, Washington, DC 20590; (202) 493-0001, bill.mahorney@dot.gov. If you have questions on viewing or submitting material to the docket, call Dockets Operations at (202) 366-9826.

SUPPLEMENTARY INFORMATION: FMCSA organizes this final rule as follows:

I. Availability of Rulemaking Documents

II. Executive Summary

A. Purpose and Summary of the Regulatory Action

B. Summary of Major Provisions

C. Costs and Benefits

III. Abbreviations

V. Legal Basis

VI. Discussion of Proposed Rulemaking and Comments

A. Proposed Rulemaking

B. Comments and Responses

VII. Changes From the NPRM

VIII. International Impacts

IX. Section-by-Section Analysis

X. Regulatory Analyses

A. E.O. 12866 (Regulatory Planning and Review) and DOT Regulatory Policies and Procedures

B. E.O. 14192 (Unleashing American Prosperity Through Deregulation)

C. Congressional Review Act

D. Regulatory Flexibility Act

E. Assistance for Small Entities

F. Unfunded Mandates Reform Act of 1995

G. Paperwork Reduction Act

H. E.O. 13132 (Federalism)

I. Privacy

J. E.O. 13175 (Indian Tribal Governments)

K. National Environmental Policy Act of 1969

I. Availability of Rulemaking Documents

To view any documents mentioned as being available in the docket, go to https://www.regulations.gov/docket/FMCSA-2025-0115/document and choose the document to review. To view comments, click this final rule, then click “Browse Comments.” If you do not have access to the internet, you may view the docket online by visiting Dockets Operations at U.S. Department of Transportation, 1200 New Jersey Avenue SE, Washington, DC 20590-0001, between 9 a.m. and 5 p.m., Monday through Friday, except Federal holidays. To be sure someone is there to help you, please call (202) 366-9317 or (202) 366-9826 before visiting Dockets Operations.

II. Abbreviations

CFR Code of Federal Regulations

CMV Commercial motor vehicle

DOT Department of Transportation

DVIR Driver Vehicle Inspection Report

eDVIR Electronic Driver Vehicle Inspection Report

E-SIGN The Electronic Signatures in Global and National Commerce Act

FMCSA Federal Motor Carrier Safety Administration

FR Federal Register

GPEA Government Paperwork Elimination Act

OMB Office of Management and Budget

PIA Privacy Impact Assessment

PII Personally identifiable information

PTA Privacy Threshold Analysis

NPRM Notice of proposed rulemaking

NSTA National School Transportation Association

NTTC National Tank Truck Carriers

The Secretary The Secretary of Transportation

UMRA The Unfunded Mandates Reform Act of 1995

U.S.C. United States Code

V. Legal Basis

The Motor Carrier Safety Act of 1984 (Pub. L. 98-554, Title II, 98 Stat. 2832, Oct. 30, 1984), as amended, (the 1984 Act) provides broad authority to regulate drivers, motor carriers, and vehicle equipment. Section 211 of the 1984 Act grants the Secretary of Transportation (the Secretary) broad power, in carrying out motor carrier safety statutes and regulations, to “prescribe recordkeeping and reporting requirements” and to “perform other acts the Secretary considers appropriate” (49 U.S.C. 31133(a)(8) and (10)). The FMCSA Administrator has been delegated authority under 49 CFR 1.87(f) to carry out the functions vested in the Secretary by 49 U.S.C. chapter 311, subchapters I and III, relating to commercial motor vehicle (CMV) programs and safety regulation.

Two Federal statutes govern the Agency's implementation of electronic document and signature requirements. The Government Paperwork Elimination Act (GPEA) (Pub. L. 105-277, Title XVII (Secs. 1701-1710), 112 Stat. 2681-749, 44 U.S.C. 3504 note) was enacted on October 21, 1998, to improve customer service and governmental efficiency through the use of information technology. The Electronic Signatures in Global and National Commerce Act (E-SIGN) (Pub. L. 106-229, 114 Stat. 464, 15 U.S.C. 7001-7031) was signed into law on June 30, 2000. E-SIGN was designed to promote the use of electronic contract formation, signatures, and recordkeeping in private commerce by establishing legal equivalence between traditional paper-based methods and electronic methods. The GPEA defines an electronic signature as a method of signing an electronic communication that: (a) Identifies and authenticates a particular person as the source of the electronic communication; and (b) indicates such person's approval of the information contained in the electronic communication (section 1710(1)). It also requires Federal agencies to provide individuals and entities the options of: (a) submitting information to or transacting with the Agency electronically; and (b) using electronic records retention when practicable. The GPEA states that electronic records and their related electronic signatures shall not be denied legal effect, validity, or enforceability merely because they are in electronic form (section 1707). It also encourages agencies to use electronic signature alternatives (section 1704).

For any transaction in or affecting interstate or foreign commerce, E-SIGN supersedes all pre-existing requirements that paper records be kept so long as: (a) such records are generated in commercial, consumer, and business transactions between private parties; and (b) those parties consent to using electronic methods. Specifically, the statute establishes the legal equivalence for contracts, signatures, and other legally required documents, whether in traditional paper or electronic form (15 U.S.C. 7001(a)(1)).

VI. Discussion of Proposed Rulemaking and Comments

A. Proposed Rulemaking

On May 30, 2025, FMCSA published in the Federal Register (90 FR 22957) an NPRM titled “Electronic Driver Vehicle Inspection Reports.” The NPRM proposed to clarify the requirement to complete a DVIR, based upon a public comment filed by NTTC. Although a DVIR was already allowed to be completed electronically, the NPRM proposed explicit language to make this clear. This was intended to encourage motor carriers and drivers to utilize electronic, cost-saving methods when completing DVIRs.

B. Comments and Responses

FMCSA solicited comments concerning the NPRM for 60 days ending July 29, 2025. By that date, five comments were received—four in support and one recommended revision.

One individual and three trade organizations (NTTC, Owner Operator Independent Drivers Association, and the American Trucking Associations) were in favor of the proposal. One trade organization, the National School Transportation Association (NSTA), offered a suggestion.

The individual who commented in support also noted that explicitly allowing electronic DVIRs (eDVIRs) will promote their use and thereby increase efficiency. He also noted that this increased efficiency might justify reinstating a requirement for no-defect DVIRs by drivers of passenger-carrying CMVs.¹ He reasoned that the requirement to submit no-defect DVIRs could be reintroduced without substantially increasing paperwork burden for those drivers using eDVIRs due to the speed at which eDVIRs may be completed relative to paper-based DVIRs.

¹ The final rule, “Passenger Carrier No-Defect Driver Vehicle Inspection Report,” Aug. 18, 2020, 85 FR 50787, which eliminated the requirement for completion of no-defect DVIRs by drivers of passenger-carrying CMVs, may be found at https://www.regulations.gov/document/FMCSA-2019-0075-0014.

FMCSA does not agree with the commenter suggesting the Agency consider reinstating the requirement for the submission of no-defect DVIRs. The Agency stands by its rationale presented in the preamble to the December 18, 2014 (79 FR 75437) final rule. There is no basis for introducing regulatory burdens for drivers to prepare reports documenting there were no defects or deficiencies observed by or reported to the driver during the work shift, and for motor carriers to retain such reports, regardless of whether it is performed electronically.²

² The approved information collection titled “Inspection, Repair and Maintenance,” Office of Management and Budget control number 2126-0003 may be found at https://www.reginfo.gov/public/do/PRAOMBHistory?ombControlNumber=2126-0003.

NSTA requested that FMCSA continue to allow paper-based DVIRs as a compliance alternative. FMCSA will continue to do so.

VII. Changes From the NPRM

This final rule makes no changes from the NPRM.

VIII. International Impacts

Motor carriers and drivers are subject to the laws and regulations of the countries where they operate, unless an international agreement states otherwise. Drivers and carriers should be aware of the regulatory differences between nations.

IX. Section-by-Section Analysis

This section-by-section analysis describes the changes to the regulatory text in numerical order.

Two places in section 396.11 are revised by specifically noting that the reports required in that section may be created and maintained in electronic format, in accordance with section 390.32.

Similarly, section 396.13 is revised to specifically allow for the electronic creation and maintenance of the reports required in that section, in accordance with section 390.32.

X. Regulatory Analyses

A. Executive Order (E.O.) 12866 (Regulatory Planning and Review), and DOT Regulatory Policies and Procedures

FMCSA has considered the impact of this final rule under E.O. 12866 (58 FR 51735, Oct. 4, 1993), Regulatory Planning and Review, and DOT Order 2100.6B.³ The Office of Information and Regulatory Affairs within the Office of Management and Budget (OMB) determined that this final rule is not a significant regulatory action under section 3(f) of E.O. 12866, and has not reviewed it under that E.O.

³ DOT Order 2100.6B is available at https://www.transportation.gov/regulations/dot-order-21006b-policies-and-procedures-rulemakings.

This rulemaking revises the regulations to clarify that a DVIR may be completed electronically. This will encourage motor carriers and drivers to use electronic, cost-saving methods when completing DVIRs and will likely result in cost savings for those entities that choose to switch to electronic methods. FMCSA does not have data on the number of entities impacted by this rule. Absent this information, FMCSA is unable to quantify the cost savings associated with this rulemaking.

FMCSA does not anticipate that this rulemaking will impact safety. Motor carriers and intermodal equipment providers are required to undergo inspections and correct all violations found.

B. E.O. 14192 (Unleashing Prosperity Through Deregulation)

E.O. 14192, Unleashing Prosperity Through Deregulation, was issued on January 31, 2025 (90 FR 9065, Jan. 31, 2025). E.O. 14192 requires that, for “each new [E.O. 14192 regulatory action] issued, at least ten prior regulations be identified for elimination.”

Implementation guidance for E.O. 14192 was issued by OMB (Memorandum M-25-20, Mar. 26, 2025) defines two different types of E.O. 14192 actions: an E.O. 14192 deregulatory action, and an E.O. 14192 regulatory action.⁴

⁴ OMB, Guidance Implementing Section 3 of Executive Order 14192, Titled “Unleashing Prosperity Through Deregulation,” Memorandum M-25-20, (Mar. 26, 2025).

An E.O. 14192 deregulatory action is defined as “an action that has been finalized and has total costs less than zero. This final rule is expected to have total costs less than zero, and therefore is considered an E.O. 14192 deregulatory action.

C. Congressional Review Act

This final rule is not a major rule as defined under the Congressional Review Act (5 U.S.C. 801-808).” ⁵

⁵ A major rule means any rule that OMB finds has resulted in or is likely to result in (a) an annual effect on the economy of $100 million or more; (b) a major increase in costs or prices for consumers, individual industries, geographic regions, Federal, State, or local government agencies; or (c) significant adverse effects on competition, employment, investment, productivity, innovation, or on the ability of United States-based enterprises to compete with foreign-based enterprises in domestic and export markets (5 U.S.C. 804(2)).

D. Regulatory Flexibility Act (Small Entities)

The Regulatory Flexibility Act (5 U.S.C. 601 et seq.), as amended by the Small Business Regulatory Enforcement Fairness Act of 1996,⁶ requires Federal agencies to consider the effects of the regulatory action on small business and other small entities and to minimize any significant economic impact. The term small entities means small businesses and not-for-profit organizations that are independently owned and operated and are not dominant in their fields, and governmental jurisdictions with populations of less than 50,000 (5 U.S.C. 601(6)). Accordingly, DOT policy requires an analysis of the impact of all regulations on small entities, and mandates that agencies strive to lessen any adverse effects on these businesses.

⁶ Public Law 104-121, 110 Stat. 857, (Mar. 29, 1996).

This final rule will impact motor carriers and drivers that currently use a paper-based DVIR process and chose to switch to electronic, cost-saving methods. FMCSA anticipates that the majority of motor carriers who wish to use an electronic process are already doing so, and therefore, this final rule will not impact a substantial number of small entities.

FMCSA does not have information to estimate the cost savings associated with switching to an electronic process for DVIR creation, maintenance, and signature but anticipates that any cost savings would be de minimis.

Given that this rulemaking is not expected to impact a substantial number of small entities, the Agency is comfortable certifying as such. Consequently, I certify that the action will not have a significant economic impact on a substantial number of small entities.

E. Assistance for Small Entities

In accordance with section 213(a) of the Small Business Regulatory Enforcement Fairness Act of 1996 (Pub. L. 104-121, 110 Stat. 857), FMCSA wants to assist small entities in understanding this final rule so they can better evaluate its effects on themselves and participate in the rulemaking initiative. If the final rule will affect your small business, organization, or governmental jurisdiction and you have questions concerning its provisions or options for compliance, please consult the person listed under FOR FURTHER INFORMATION CONTACT.

Small businesses may send comments on the actions of Federal employees who enforce or otherwise determine compliance with Federal regulations to the Small Business Administration's Small Business and Agriculture Regulatory Enforcement Ombudsman (Office of the National Ombudsman, see https://www.sba.gov/about-sba/oversight-advocacy/office-national-ombudsman) and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

F. Unfunded Mandates Reform Act of 1995

The Unfunded Mandates Reform Act of 1995 (UMRA) (2 U.S.C. 1531-1538) requires Federal agencies to assess the effects of their discretionary regulatory actions. The Act addresses actions that may result in the expenditure by a State, local, or Tribal government, in the aggregate, or by the private sector of $206 million (which is the value equivalent of $100 million in 1995, adjusted for inflation to 2024 levels) or more in any 1 year. Though this final rule will not result in such an expenditure, and the analytical requirements of UMRA do not apply as a result, the Agency discusses the effects of this rule elsewhere in this preamble.

G. Paperwork Reduction Act

This final rule contains no new information collection requirements under the Paperwork Reduction Act of 1995 (44 U.S.C. 3501-3520).

H. E.O. 13132 (Federalism)

A rulemaking has implications for federalism under section 1(a) of E.O. 13132 (64 FR 43255, Aug. 10, 1999), Federalism, if it has “substantial direct effects on the States, on the relationship between the national government and the States, or on the distribution of power and responsibilities among the various levels of government.”

FMCSA has determined that this rulemaking would not have substantial direct costs on or for States, nor would it limit the policymaking discretion of States. Nothing in this document preempts any State law or regulation. Therefore, this rulemaking does not have sufficient federalism implications to warrant the preparation of a Federalism Impact Statement.

I. Privacy

The Consolidated Appropriations Act, 2005,⁷ requires the Agency to assess the privacy impact of a regulation that will affect the privacy of individuals. This final rule will not require the collection of personally identifiable information (PII).

⁷ Public Law 108-447, 118 Stat. 2809, 3268, note following 5 U.S.C. 552a (Dec. 4, 2014).

The Privacy Act (5 U.S.C. 552a) applies only to Federal agencies and any non-Federal agency that receives records contained in a system of records from a Federal agency for use in a matching program.

The E-Government Act of 2002,⁸ requires Federal agencies to conduct a Privacy Impact Assessment (PIA) for new or substantially changed technology that collects, maintains, or disseminates information in an identifiable form.

⁸ Public Law 107-347, sec. 208, 116 Stat. 2899, 2921 (Dec. 17, 2002).

No new or substantially changed technology will collect, maintain, or disseminate information as a result of this rule. Accordingly, FMCSA has not conducted a PIA.

The Agency will complete a Privacy Threshold Analysis (PTA) to evaluate the risks and effects the final rule may have on collecting, storing, and sharing PII. The PTA will be submitted to FMCSA's Privacy Officer for review and preliminary adjudication and to DOT's Privacy Officer for review and final adjudication.

J. E.O. 13175 (Indian Tribal Governments)

This rulemaking does not have Tribal implications under E.O. 13175 (65 FR 67249, Nov. 9, 2000), Consultation and Coordination with Indian Tribal Governments, because it does not have a substantial direct effect on one or more Indian Tribes, on the relationship between the Federal Government and Indian Tribes, or on the distribution of power and responsibilities between the Federal Government and Indian Tribes.

K. National Environmental Policy Act of 1969

FMCSA analyzed this final rule pursuant to the National Environmental Policy Act of 1969 (42 U.S.C. 4321 et seq.). The Agency believes this final rule will not have a reasonably foreseeable significant effect on the quality of the human environment. This action falls under a published categorical exclusion and thus is excluded from further analysis and documentation in an environmental assessment or environmental impact statement under DOT Order 5610.1D,⁹ Subpart B, Subsection (e). Specifically, paragraphs (e)(6)(f)(1), (e)(6)(q), and (e)(6)(aa), which cover regulations pertaining to driver/vehicle inspections, implementing record preservation procedures, and requiring motor carriers, their officers, drivers, agents, representatives, and employees directly in control of CMVs to inspect, repair, and provide maintenance for every CMV used on a public road, respectively.

⁹ DOT Order 5610.1D, “Procedures for Considering Environmental Impacts,” may be found at https://www.transportation.gov/mission/dots-procedures-considering-environmental-impacts.

List of Subjects in 49 CFR Part 396

Highway safety, Motor carriers, Motor vehicle safety, Reporting and recordkeeping requirements.

Accordingly, FMCSA amends 49 CFR part 396 to read as follows:

PART 396—INSPECTION, REPAIR, AND MAINTENANCE

1. The authority citation for part 396 continues to read as follows:

Authority: 49 U.S.C. 504, 31133, 31136, 31151, 31502; sec. 32934, Pub. L. 112-141, 126 Stat. 405, 830; sec. 5524, Pub. L. 114-94, 129 Stat. 1312, 1560; and 49 CFR 1.87.

2. Amend section 396.11 by adding paragraphs (a)(6) and (b)(5) to read as follows:

§ 396.11 Driver vehicle inspection report(s).

(a) * * *

(6) Electronic reporting. The report required by this paragraph (a) may be created and maintained in electronic format, in accordance with 49 CFR 390.32.

(b) * * *

(5) Electronic reporting. The report required by this paragraph (b) may be created and maintained in electronic format, in accordance with 49 CFR 390.32.

3. Amend section 396.13 by adding paragraph (d) to read as follows:

§ 396.13 Driver inspection.

* * * * *

(d) The reports required by this section may be created and maintained in electronic format, in accordance with 49 CFR 390.32.

Issued under authority delegated in 49 CFR 1.87.
Derek Barrs,
Administrator.

[FR Doc. 2026-03264 Filed 2-18-26; 8:45 am]

BILLING CODE 4910-EX-P